DEPARTMENT OF LABOR

Employment and Training Administration

Nominations for the Task Force on Apprenticeship Expansion

AGENCY: Employment and Training Administration, Labor.

ACTION: Solicitation of nominations to serve on the Task Force on Apprenticeship Expansion.

SUMMARY: The Secretary of Labor invites interested persons to submit nominations for individuals to serve on the Task Force on Apprenticeship Expansion (hereinafter “the Task Force” or “the panel”), a non-discretionary federal advisory committee authorized pursuant to section 8 of Executive Order 13801, entitled “Expanding Apprenticeships in America” (hereinafter “the Executive Order”), which was issued on June 15, 2017 (82 FR 28229) and which directed the Secretary of Labor to establish and chair such a panel in the Department of Labor.

DATES: If transmitted by mail, nominations for individuals to serve on the Task Force must be postmarked by August 8, 2017. Alternatively, if Task Force nominations are submitted electronically or by hand delivery, such nominations must be received by August 8, 2017.

ADDRESSES: Interested persons may submit Task Force nominations, including relevant attachments, through any of the following methods:

• Electronically: Send to: Apprenticeshiptaskforce@dol.gov (and please specify in the email subject line, “Nominations for Task Force on Apprenticeship Expansion”).

• Mail, express delivery, hand delivery, messenger service, or courier service: Submit one copy of the documents listed above to the following address: U.S. Department of Labor, Employment and Training Administration, Office of Apprenticeship, Task Force on Apprenticeship Expansion, Room C-5321, 200 Constitution Avenue NW., Washington, DC 20210.

FOR FURTHER INFORMATION CONTACT: For any questions concerning the Task Force nomination process, please contact Ms. Natalie S. Linton, Program Analyst, Employment and Training Administration, Office of Apprenticeship, at Linton.Natalie.S.@dol.gov, telephone (202) 693-3592 (this is not a toll-free number).

SUPPLEMENTARY INFORMATION: The Task Force is being established in accordance with the provisions of the Federal Advisory Committee Act (FACA), as amended, 5 U.S.C. App. 2. The Task Force is charged with the mission of identifying strategies and proposals to promote apprenticeships, especially in sectors where apprenticeship programs are insufficient. Upon completion of this assignment, the Task Force shall submit to the President of the United States a final report which details these strategies and proposals. Pursuant to the Executive Order, the report must specifically address the following four topics:

• Federal initiatives to promote apprenticeships;

• Administrative and legislative reforms that would facilitate the formation and success of apprenticeship programs;

• The most effective strategies for creating industry-recognized apprenticeships; and

• The most effective strategies for amplifying and encouraging private-sector initiatives to promote apprenticeships.

The Task Force will be solely advisory in nature, and will consider testimony, reports, comments, research, evidence, and existing practices as appropriate to develop recommendations for inclusion in its final report to the President. While the Executive Order did not set forth a definite time frame by which the panel must complete its development of apprenticeship-related strategies and proposals and submit its final report to the President, it is important to note that the Task Force will not be continuing in nature. Pursuant to the Executive Order, the Task Force shall terminate 30 days after it submits its final report to the President.

Under the Executive Order, the Secretary of Labor shall serve as the Chair of the Task Force. The Secretaries of Education and Commerce shall serve as Vice-Chairs of the Task Force. The Secretary of Labor shall appoint the other members of the Task Force, which shall consist of no more than twenty (20) individuals who work for or represent the perspectives of American companies, trade or industry groups, educational institutions, and labor unions, and such other persons as the Secretary of Labor may from time to time designate. These members shall include distinguished citizens from outside of the Federal Government with relevant experience or subject-matter expertise concerning the development of a skilled workforce through quality apprenticeship programs. Pursuant to the Executive Order, a member of the Task Force may designate a senior member of his or her organization to attend any Task Force meeting.

Members of the Task Force shall serve without additional compensation for their work on the Task Force, but shall be allowed travel expenses, including per diem in lieu of subsistence, to the extent permitted by law for persons serving intermittently in the Government service (5 U.S.C. 5701-5707), consistent with the availability of funds. Each member of the Task Force shall serve at the pleasure of the Secretary of Labor for a term specified in the Task Force's charter (not to exceed 30 days after the delivery of the panel's final report to the President). The Secretary of Labor may also appoint members to fill any Task Force vacancies that may emerge while the panel is in existence.

Nomination Process: Any interested person or organization may nominate one or more qualified individuals for membership on the Task Force. If you would like to nominate yourself or another person for appointment to the panel, you must include the following information as part of the application:

• A copy of the nominee's resume;

• A cover letter that provides your reason(s) for nominating the individual, including a description of the relevant experience and subject-matter expertise of that person concerning the development of a skilled workforce through quality apprenticeship programs; and

• Contact information for the nominee (name, title, business address, business phone, fax number, and business email address).

In addition, the cover letter must represent that the Task Force nominee has agreed to be nominated and is willing to serve on the panel. Please do not include any information in your nomination submission that you do not want publicly disclosed. In selecting Task Force members, the Secretary of Labor will consider individuals nominated in response to this Federal Register notice, as well as other qualified individuals. Nominees will be appointed based upon their demonstrated qualifications, professional experience, and demonstrated knowledge of issues related to the scope and purpose of the Task Force, as well as the need to obtain a diverse range of views on this important subject.

Byron Zuidema,
Deputy Assistant Secretary for the Employment and Training Administration.

[FR Doc. 2017-15682 Filed 7-24-17; 8:45 am]

BILLING CODE 4510-FR-P